DEPARTMENT OF THE INTERIOR

Bureau of Land Management

[LLAZ910000.L13400000.DT0000.LXSS058A0000]

Notice of Availability of the Restoration Design Energy Project Record of Decision/Approved Resource Management Plan Amendments, AZ

AGENCY: Bureau of Land Management, Interior.

ACTION: Notice of availability.

SUMMARY: The Bureau of Land Management (BLM) announces the availability of the Restoration Design Energy Project (RDEP) Record of Decision (ROD)/approved Resource Management Plan (RMP) amendments for BLM-administered lands in Arizona. The Arizona State Director signed the ROD on January 18, 2013, which constitutes the BLM's final decision and makes the approved RMP amendments effective immediately.

ADDRESSES: Copies of the ROD/approved RMP amendments are available upon request from the BLM, Arizona State Office, One North Central Avenue, Suite 800, Phoenix, AZ 85004-4427 or via the Internet at http://www.blm.gov/az/st/en/prog/energy/arra_solar.htm. Copies of the ROD/approved RMP amendments are also available for public inspection at the Arizona State Office.

FOR FURTHER INFORMATION CONTACT: Kathy Pedrick, BLM Project Manager; telephone: 602-417-9235; mail: One North Central Avenue, Suite 800, Phoenix, AZ 85004-4427; or email: az_arra_rdep@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The RDEP supports the Secretary of the Interior's goals to build America's new energy future and to protect and restore treasured landscapes. The purpose of the RDEP was to conduct statewide planning that fosters environmentally responsible development of renewable energy and allows the permitting of future renewable energy development projects to proceed in a more efficient and standardized manner. The RDEP ROD identifies geographic areas best suited for renewable energy development and establishes a baseline set of environmental protection measures for such projects. A total of 192,100 acres are identified as Renewable Energy Development Areas (REDAs) in the ROD/approved RMP amendments.

The following BLM RMPs are amended through the RDEP ROD to incorporate the identification of REDAs and environmental protection measures, as appropriate: Bradshaw-Harquahala RMP (2010); Arizona Strip Field Office RMP (2008); Kingman Resource Area RMP (1995); Lake Havasu Field Office RMP (2007); Lower Sonoran RMP (2012); Phoenix RMP (1988); Safford District RMP (1991); and Yuma Field Office RMP (2010). Additionally, the BLM is amending the Yuma Field Office RMP through this ROD to designate the Agua Caliente Solar Energy Zone (SEZ), identify SEZ-specific design features, change the Visual Resource Management (VRM) class from VRM class III to VRM class IV for lands within the 2,550-acre SEZ, and remove the Special Recreation Management Area designation and Wildlife Habitat Management Area allocations from within the SEZ.

The preferred alternative as described in the RDEP Draft Environmental Impact Statement (EIS) was carried forward with some modifications into the Final EIS/proposed RMP amendments, published in the Federal Register on October 26, 2012 (77 FR 65401) and November 2, 2012 (77 FR 66183). There are no appealable decisions within the ROD/approved RMP amendments.

The BLM did not receive any protest letters on the RDEP Final EIS/proposed RMP amendments. However, the BLM Arizona State Director did receive four comment letters on the RDEP Final EIS; the comments were reviewed for content, and the ROD includes a discussion of the clarifications made as a result of the comment letters.

No inconsistencies with State or local plans, policies, or programs were identified during the Governor's consistency review of the RDEP Final EIS/proposed RMP amendments. The approved RMP amendments are the same as Alternative 6 described in the RDEP Final EIS/proposed RMP amendments with only minor editorial modifications made in preparing the ROD/approved RMP amendments. The ROD/approved RMP amendments can be accessed at the RDEP Web site: http://www.blm.gov/az/st/en/prog/energy/arra_solar.htm.

Authority: 40 CFR 1505.2 and 43 CFR 1610.5-1.

Raymond Suazo,
Arizona State Director.

[FR Doc. 2013-01193 Filed 1-18-13; 8:45 am]

BILLING CODE 4310-32-P